CORPORATION FOR NATIONAL AND COMMUNITY SERVICE

45 CFR Parts 2527, 2551, and 2552

RIN 3045-AA51

Serve America Act Amendments to the National and Community Service Act of 1990 and the Domestic Volunteer Service Act of 1973

AGENCY: Corporation for National and Community Service.

ACTION: Proposed rule with request for comments; correction.

SUMMARY: The Corporation for National and Community Service (the Corporation) is correcting a proposed rule to implement changes to the operation of the National Service Trust and the Senior Corps programs under the Serve America Act, that appeared in the Federal Register of February 23, 2010 (75 FR 8013). That document incorrectly amended 45 CFR 2527.10(c) by removing current paragraph (c)(2). Additionally, there were two misstatements in the preamble. First, in an example to illustrate the limitation on the value of education awards an individual may receive, the preamble stated that a person who had previously earned the aggregate value of 1.71 awards could enroll in a quarter-time, minimum-time, reduced part-time, or Silver Scholar position. The inclusion of reduced part-time as an option in this example was in error. Second, the preamble incorrectly described the hardship waiver for Senior Companion and Foster Grandparent programs in the preamble. This document corrects the interim final rule by revising the preamble language providing an example of the aggregate value of education awards and the language describing the hardship waiver for Senior Companion and Foster Grandparent programs and by revising the instructions for 45 CFR 2527.10.

DATES: To be sure your comments are considered, they must reach the Corporation on or before April 26, 2010.

FOR FURTHER INFORMATION CONTACT: Amy Borgstrom, Docket Manager, Corporation for National and Community Service, (202) 606-6930, TDD (202) 606-3472. Persons with visual impairments may request this document in an alternate format.

SUPPLEMENTARY INFORMATION: In FR Doc. 2010-3385, beginning on page 8013 in the Federal Register of Thursday, February 23, 2010, make the following corrections:

1. In the Supplementary Information section, on page 8019, revise the second paragraph of the second column to read as follows:

Using the example above, if an individual had received an aggregate value of 1.71 awards in the past, that individual may be eligible to enroll in a quarter-time, minimum-time, or Silver Scholar position, but would not be eligible to enroll in a part-time or full-time position, since the value of a part-time award, .5, plus 1.71, is greater than 2.

2. In the Supplementary Information section, on page 8023, in the second column, revise the paragraph entitled “Hardship Waiver Permitted for Cost Reimbursement Cap for Senior Companion and Foster Grandparent Programs (§§ 2552.92, 2552.92)” to read as follows:

Hardship Waiver Permitted for Cost Reimbursement Requirement for Senior Companion and Foster Grandparent Programs (§§ 2551.92, 2552.92) “Under current regulations, the total of cost reimbursements attributable to Senior Companions or Foster Grandparents, including stipends, insurance, transportation, meals, physical examinations, and recognition, must equal at least 80 percent of the Federal share of the grant award. Because of the financial challenges faced by some organizations as a result of the recent economic downturn and the real potential for a decrease in non-Federal support, the proposed rule permits the Corporation to allow an exception to the 80 percent requirement in cases of demonstrated need. Demonstrated need would include initial difficulties in developing local funding sources in the first three years of operation; an economic downturn, natural disaster, or other similar event that severely reduces sources of local funding support; or the unexpected discontinuation of a long-term local funding source.

3. On page 8027, in the second column, revise paragraph (c) to read as follows:

§ 2527.10 [Corrected]

* * * * *

(c) Reduced part-time term of service. The education award for a reduced part-time term of service in an approved AmeriCorps position of fewer than 900 hours is:

(1) An amount equal to the product of:

(i) The number of hours of service required to complete the reduced part-time term of service divided by 900; and

(ii) The amount of the education award for a part-time term of service described in paragraph (b) of this section; or

(2) An amount as otherwise determined by the Corporation.

* * * * *

Dated: March 23, 2010.
Frank R. Trinity,
General Counsel.

[FR Doc. 2010-6962 Filed 3-29-10; 8:45 am]

BILLING CODE 6050-$$-P